DEPARTMENT OF ENERGY

Federal Energy Regulatory Commission

Combined Notice of Filings #1

Take notice that the Commission received the following electric rate filings:

Docket Numbers: ER17-848-000.

Applicants: Iron Horse Battery Storage, LLC.

Description: Supplement to January 24, 2017 Iron Horse Battery Storage, LLC tariff filing.

Filed Date: 2/6/17.

Accession Number: 20170206-5224.

Comments Due: 5 p.m. ET 2/16/17.

Docket Numbers: ER17-945-000.

Applicants: Southwest Power Pool, Inc.

Description: § 205(d) Rate Filing: 3103R1 Plains and Eastern Clean Line Oklahoma & SPS Int Agr to be effective 1/27/2017.

Filed Date: 2/8/17.

Accession Number: 20170208-5029.

Comments Due: 5 p.m. ET 3/1/17.

Docket Numbers: ER17-946-000.

Applicants: PJM Interconnection, L.L.C.

Description: § 205(d) Rate Filing: Original Service Agreement No. 4620; Queue No. AA1-085 to be effective 1/9/2017.

Filed Date: 2/8/17.

Accession Number: 20170208-5032.

Comments Due: 5 p.m. ET 3/1/17.

Take notice that the Commission received the following qualifying facility filings:

Docket Numbers: QF17-630-000.

Applicants: Taylor Farms Retail, Inc.

Description: Form 556 of Taylor Farms Retail, Inc.

Filed Date: 2/3/17.

Accession Number: 20170203-5283.

Comments Due: None Applicable.

Docket Numbers: QF17-631-000.

Applicants: True Leaf Energy, LLC.

Description: Form 556 of True Leaf Energy, LLC.

Filed Date: 2/3/17.

Accession Number: 20170203-5285.

Comments Due: None Applicable.

Docket Numbers: QF17-639-000.

Applicants: Holcim (US) Inc.

Description: Form 556 of Holcim (US) Inc.

Filed Date: 2/7/17.

Accession Number: 20170207-5098.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 8, 2017.
Nathaniel J. Davis, Sr.,
Deputy Secretary.

[FR Doc. 2017-03221 Filed 2-16-17; 8:45 am]

BILLING CODE 6717-01-P